SMALL BUSINESS ADMINISTRATION

Data Collection Available for Public Comments and Recommendations

ACTION: 60 Day Notice and request for comments. 8(a) Business Development Program.

SUMMARY: In accordance with the Paperwork Reduction Act of 1995, this notice announces the Small Business Administration's intentions to request approval on a currently approved information collection.

DATES: Submit comments on or before December 13, 2011.

ADDRESSES: Send all comments regarding whether this information collection is necessary for the proper performance of the function of the agency, whether the burden estimates are accurate, and if there are ways to minimize the estimated burden and enhance the quality of the collection, to Joan Elliston, Program Analyst, Office of Business Development, Small Business Administration, 409 3rd Street, 8th Floor, Washington, DC 20416.

FOR FURTHER INFORMATION CONTACT: Joan Elliston, Program Analyst, 202-205-7190 joan.elliston@sba.gov; Curtis B. Rich, Management Analyst, 202-205-7030 curtis.rich@sba.gov.

SUPPLEMENTARY INFORMATION: In compliance with the Paperwork Reduction Act of 1995 (PRA), 44 U.S.C. chapter 35, SBA is seeking public comments on the reporting and recordkeeping requirements that will affect small businesses that are seeking to maintain 8(a) Business Development program eligibility. Each such Participant firm will be required to submit certain information to SBA along with its business financials that evidences how participation in the 8(a) program has benefited the respective communities. Currently, such Participant firms submit business financials as part of the “8(a) Annual Update”. The “8(a) Annual Update” will be amended to include potential benefits relating to funding cultural programs, employment assistance, jobs, scholarships, internships, subsistence activities, and other services to the affected community. This amendment to the “8(a) Annual Update” will be “Attachment C: 8(a) Participant Benefits Report.” As required by the 8(a) BD Program regulations, SBA will use the information to identify and track the benefits of participation that flow to Tribal, Alaskan Native, Native Hawaiian, and Community Development Corporation communities.

Title: “8(a) Annual Update”.

Description of Respondents: Firms that are currently certified as Participant firms in the 8(a) Business Development program and are owned by one of the following entities: Tribe, Alaska Native Corporation (ANC), Native Hawaiian Organization (NHO), or Community Development Corporation (CDC).

Form Number: 1450.

Annual Responses: 360.

Annual Burden: 540.

Jacqueline White,
Chief, Administrative Information Branch.

[FR Doc. 2011-26642 Filed 10-13-11; 8:45 am]

BILLING CODE 8025-01-P